DEPARTMENT OF COMMERCE

National Oceanic and Atmospheric Administration

Proposed Information Collection; Comment Request; Chesapeake Bay Watershed Environmental Literacy Indicator Tool

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: To ensure consideration, written or on-line comments must be submitted on or before February 24, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Shannon Sprague, NOAA Chesapeake Bay Office, 410 Severn Avenue, Suite 207, Annapolis, MD 21403, 410-267-5664 or shannon.sprague@noaa.gov.

SUPPLEMENTARY INFORMATION:

I. Abstract

The Chesapeake Bay Watershed Environmental Literacy Indicator Tool (ELIT) was developed to monitor public school districts' capacity and progress towards meeting the environmental literacy goal of the 2014 Chesapeake Bay Watershed Agreement (http://www.chesapeakebay.net/documents/ChesapeakeBayWatershedAgreemenetFINAL.pdf): “Enable every student in the region to graduate with the knowledge and skills to act responsibly to protect and restore their local watershed.” The signatories of the Agreement included the mayor of the District of Columbia and the governors of the states of Delaware, Maryland, New York, Pennsylvania, Virginia, and West Virginia. The general statutory authority for this program is the National Environmental Policy Act, 42 U.S.C. 4321 et seq.

NOAA, on behalf of the Chesapeake Bay Program, will ask the state education agencies for Maryland, Pennsylvania, Delaware, Virginia, West Virginia, and the District of Columbia to survey their local education agencies (LEAs) to determine: (1) LEA capacity to implement a comprehensive and systematic approach to environmental literacy education, (2) student participation in Meaningful Watershed Educational Experiences during the school year, (3) sustainability practices at schools, and (4) LEA needs for improving environmental literacy education programming. LEAs (generally school districts, in some cases charter school administration) are asked to complete the survey on the status of their LEA on a set of key indicators for the four areas listed above. One individual from each LEA is asked to complete this survey once every two years.

In addition to monitoring progress on the environmental literacy goal of the Chesapeake Bay Watershed Agreement, the information collected will inform several Chesapeake Bay Program partner agencies' work to support the school districts' environmental literacy education efforts.

The results of the biennial ELIT survey will be analyzed and reported to the internal stakeholders of the Chesapeake Bay Watershed Agreement. Participating states will receive a summarized report of findings for the full watershed, a summary of findings for their state, and comparisons of results between states. These aggregated results will be used by the state agencies to understand progress of their school districts over time, and to inform decision-making about strategies and priorities for future work with school districts.

The biennial reporting will also be used by the Chesapeake Bay Program to understand progress of school districts in the watershed, understand differences between jurisdictions, and guide strategy for providing targeted support in each state.

State agencies and other stakeholders will also have access to the responses of each public school district, which they will use to customize outreach and support to a particular school district, based on their status and needs.

II. Method of Collection

Respondents will submit their information electronically on web-based survey forms.

III. Data

OMB Control Number: 0648-0753.

Form Number(s): None.

Type of Review: Regular submission (extension of a current information collection).

Affected Public: State, Local, or Tribal government (local education agencies); Not-for-profit organizations (charter schools).

Estimated Number of Respondents: 983.

Estimated Time per Response: 1.5 hours.

Estimated Total Annual Burden Hours: 1,106.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2019-27745 Filed 12-23-19; 8:45 am]

BILLING CODE 3510-22-P